DEPARTMENT OF THE INTERIOR

National Park Service

[N6556; NPS-WASO-NAGPRA-NPS0041145; PPWOCRADN0-PCU00RP14.R50000]

Notice of Intended Repatriation: The Metropolitan Museum of Art, New York, NY

AGENCY: National Park Service, Interior.

ACTION: Notice.

SUMMARY: In accordance with the Native American Graves Protection and Repatriation Act (NAGPRA), The Metropolitan Museum of Art (The Met) intends to repatriate a certain cultural item that meets the definition of an unassociated funerary object and that has a cultural affiliation with the Indian Tribes or Native Hawaiian organizations in this notice.

DATES: Repatriation of the cultural item in this notice may occur on or after October 27, 2025.

ADDRESSES: Send additional, written requests for repatriation of the cultural item in this notice to Jennifer Day, NAGPRA Coordinator & Community Liaison, The Metropolitan Museum of Art, 1000 Fifth Avenue, New York, NY 10028, email Jennifer.day@metmuseum.org.

SUPPLEMENTARY INFORMATION: This notice is published as part of the National Park Service's administrative responsibilities under NAGPRA. The determinations in this notice are the sole responsibility of The Met, and additional information on the determinations in this notice, including the results of consultation, can be found in the summary or related records. The National Park Service is not responsible for the determinations in this notice.

Abstract of Information Available

A total of one cultural item has been requested for repatriation. The one unassociated funerary object is a dark gray stone Zoomorph. Consultation with the Wiyot Tribe, California and museum records indicate that the item was found in a burial site on Tuluwat Island, the traditional homelands of the Wiyot people in Northern California, and identify the Zoomorph as culturally affiliated with the Wiyot Tribe. The item was donated to the museum by Nelson Rockefeller in 1979.

Determinations

The Met has determined that:

• The one unassociated funerary object described in this notice is reasonably believed to have been placed intentionally with or near human remains, and are connected, either at the time of death or later as part of the death rite or ceremony of a Native American culture according to the Native American traditional knowledge of a lineal descendant, Indian Tribe, or Native Hawaiian organization. The unassociated funerary object has been identified by a preponderance of the evidence as related to human remains, specific individuals, or families, or removed from a specific burial site or burial area of an individual or individuals with cultural affiliation to an Indian Tribe or Native Hawaiian organization.

• There is a connection between the cultural item described in this notice and the Wiyot Tribe, California.

Requests for Repatriation

Additional written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after October 27, 2025. If competing requests for repatriation are received, The Met must determine the most appropriate requestor prior to repatriation. Requests for joint repatriation of the cultural item are considered a single request and not competing requests. The Met is responsible for sending a copy of this notice to the Indian Tribes and Native Hawaiian organizations identified in this notice and to any other consulting parties.

Authority: Native American Graves Protection and Repatriation Act, 25 U.S.C. 3004 and the implementing regulations, 43 CFR 10.9.

Dated: September 11, 2025.
Melanie O'Brien,
Manager, National NAGPRA Program.

[FR Doc. 2025-18572 Filed 9-24-25; 8:45 am]

BILLING CODE 4312-52-P